COUNCIL ON ENVIRONMENTAL QUALITY

Withdrawal of National Environmental Policy Act Guidance on Consideration of Greenhouse Gas Emissions and Climate Change

AGENCY: Council on Environmental Quality.

ACTION: Notice of withdrawal of interim guidance.

SUMMARY: The Council on Environmental Quality (CEQ) is withdrawing its interim guidance titled “National Environmental Policy Act Guidance on Consideration of Greenhouse Gas Emissions and Climate Change,” for which notice was published in the Federal Register on January 9, 2023.

DATES: This withdrawal is effective May 28, 2025.

FOR FURTHER INFORMATION CONTACT: Jomar Maldonado, Director for the National Environmental Policy Act, 730 Jackson Place NW, Washington, DC 20503, jomar.maldonadovazquez@ceq.eop.gov or (202) 395-5750.

SUPPLEMENTARY INFORMATION: On January 9, 2023, the Council on Environmental Quality (CEQ) issued interim guidance to assist Federal agencies in their consideration of the effects of greenhouse gas (GHG) emissions and climate change when conducting environmental reviews pursuant to the National Environmental Policy Act (NEPA).¹ CEQ sought public comments but issued its recommendations as temporary guidance so that agencies could immediately make use of them. CEQ further advised that it may revise the guidance in response to public comments or finalize the interim guidance at a later date. CEQ did not take any further action on the Interim Guidance.

¹ National Environmental Policy Act Guidance on Consideration of Greenhouse Gas Emissions and Climate Change, 88 FR 1196 (Jan. 9, 2023) (Interim Guidance).

Executive Order 14154, Unleashing American Energy, establishes and advances the President's policies to, among other things, “protect the United States' economic and national security and military preparedness by ensuring that an abundant supply of reliable energy is readily accessible in every State and territory of the Nation;” “ensure that all regulatory requirements related to energy are grounded in clearly applicable law;” and “ensure that the global effects of a rule, regulation, or action shall, whenever evaluated, be reported separately from its domestic costs and benefits, in order to promote sound regulatory decision making and prioritize the interests of the American people.” ² CEQ has concluded that the January 9, 2023, Interim Guidance is inconsistent with these policy objectives. Therefore, CEQ is withdrawing the Interim Guidance for further consideration.

² 90 FR 8353 (Jan. 29, 2025).

Further support for CEQ's decision to withdraw the Interim Guidance is found in section 6(c) of E.O. 14154, which states that “[t]he calculation of the `social cost of carbon' is marked by logical deficiencies, a poor basis in empirical science, politicization, and the absence of a foundation in legislation. Its abuse arbitrarily slows regulatory decisions and, by rendering the United States economy internationally uncompetitive, encourages a greater human impact on the environment by affording less efficient foreign energy producers a greater share of the global energy and natural resource market.” Contrary to the policies expressed in E.O. 14154, the Interim Guidance recommended that agencies quantify and monetize GHG emissions using social cost of carbon estimates,³ citing several social cost of carbon tools and analyses that E.O. 14154 withdrew. See E.O. 14154, section 6(b). The Interim Guidance also relied extensively on the environmental justice and climate policies expressed in E.O.s 12898, 13990, and 14008, to justify its recommendations. For example, the Interim Guidance encouraged agencies to bolster and emphasize environmental justice policies in a manner inconsistent with federal law and the interests of United States. See E.O. 14173, Ending Illegal Discrimination and Restoring Merit-Based Opportunity, 90 FR 8633 (Jan. 31, 2025).

³ 88 FR 1202-03.

President Trump rescinded E.O.s 12898, 13990, and 14008 and the misguided policies they espouse. See E.O. 14154 and 14173. Accordingly, CEQ is withdrawing the Interim Guidance implementing those policies and will consider issuing new or revised GHG guidance. CEQ will address in a separate notice any new or revised guidance that may be appropriate.

In addition, pursuant to section 6 of E.O. 14154, the Office of Information and Regulatory Affairs (OIRA) issued guidance on May 5, 2025, advising agencies to “limit their analysis and consideration of [GHG] emissions only to that plainly required in their governing statutes subject to an exception” involving consultation with the U.S. Department of Justice. See Guidance Implementing Section 6 of E.O. 14154, Entitled “Unleashing American Energy” M-25-27 (May 5, 2025). Consistent with applicable law, agencies should consider OIRA's guidance when conducting environmental reviews pursuant to NEPA.

As CEQ explained in the Interim Guidance, that guidance was not a rule or regulation; may not have applied to particular situations based upon the individual facts and circumstances; did not change or substitute for any law, regulation, or other legally binding requirement; and was not legally enforceable. The withdrawal of the Interim Guidance likewise does not change any law, regulation, or other legally binding requirement.

Jomar Maldonado,
Director for the National Environmental Policy Act.

[FR Doc. 2025-09569 Filed 5-27-25; 8:45 am]

BILLING CODE 3325-FA-P